DEPARTMENT OF COMMERCE

National Oceanic and Atmospheric Administration

[I.D. 050307B]

Mid-Atlantic Fishery Management Council; Public Meeting

AGENCY: National Marine Fisheries Service (NMFS), National Oceanic and Atmospheric Administration (NOAA), Commerce.

ACTION: Notice of a public meeting.

SUMMARY: The Squid, Mackerel and Butterfish Monitoring Committee will hold a meeting.

DATES: The meeting will be held at 10 a.m. on Wednesday, May 30, 2007.

ADDRESSES: The meeting will be held at the office of the Mid-Atlantic Fishery Management Council, 300 S. New St., Room 2115, Federal Bldg, Dover, DE 19904; telephone: (302) 674-2331.

FOR FURTHER INFORMATION CONTACT: Daniel T. Furlong, Executive Director, Mid-Atlantic Fishery Management Council, 300 S. New Street, Room 2115, Dover, DE 19904; telephone: (302) 674-2331, extension 19.

SUPPLEMENTARY INFORMATION: The purpose of this meeting is to examine the biology, fisheries, and current stock status of Atlantic mackerel, Loligo and Illex squid and butterfish; and, to make recommendations to the Council relative to the 2008 quotas specifications and other management measures for this species complex.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to M. Jan Bryan at the Mid-Atlantic Council Office, (302) 674-2331 extension 18, at least 5 days prior to the meeting date.

Dated: May 4, 2007.
Tracey L. Thompson,
Acting Director, Office of Sustainable Fisheries, National Marine Fisheries Service.

[FR Doc. E7-8854 Filed 5-8-07; 8:45 am]

BILLING CODE 3510-22-S